DEPARTMENT OF COMMERCE

National Oceanic and Atmospheric Administration

50 CFR Part 622

[I.D. 030105E]

RIN 0648-AS16

Fisheries of the Caribbean, Gulf of Mexico, and South Atlantic; Shrimp Fishery of the South Atlantic Region; Amendment 6

AGENCY: National Marine Fisheries Service (NMFS), National Oceanic and Atmospheric Administration (NOAA), Commerce.

ACTION: Notice of availability of Amendment 6 to the Fishery Management Plan for the Shrimp Fishery of the South Atlantic Region (FMP); request for comments.

SUMMARY: NMFS announces that the South Atlantic Fishery Management Council (Council) has submitted Amendment 6 to the FMP for review, approval, and implementation by NMFS. Amendment 6 would modify the FMP's bycatch reduction device (BRD) framework by transferring authority from the Council to NMFS for the BRD testing protocol and by modifying the bycatch reduction criteria established in the BRD framework; require the use of BRDs in the rock shrimp fishery in the exclusive economic zone (EEZ) of the South Atlantic; establish bycatch reporting requirements for the shrimp fishery of the South Atlantic EEZ; require that all shrimp vessels harvesting penaeid shrimp in the South Atlantic EEZ obtain an annually renewable Federal shrimp vessel permit from NMFS; and establish or modify stock status criteria for white, brown, pink, and rock shrimp. The intended effect of Amendment 6 is to enhance the ecological efficiency of the shrimp fishery of the South Atlantic EEZ by better identifying the bycatch taken in the fishery and conserving those species found in the bycatch, while sustaining the viability of the shrimp fishery with a minimum of economic and social impacts.

DATES: Written comments must be received no later than 5 p.m., eastern time, on May 6, 2005.

ADDRESSES: You may submit comments by any of the following methods:

• E-mail: 0648-AS16.NOA@noaa.gov. Include in the subject line the following document identifier: 0648-AS16-NOA.

• Federal e-Rulemaking Portal: http://www.regulations.gov. Follow the instructions for submitting comments.

• Mail: Steve Branstetter, Southeast Regional Office, NMFS, 9721 Executive Center Drive N., St. Petersburg, FL 33702.

• Fax: From March 7, 2005 through March 17, 2005, 727-570-5583. From March 22, 2005 through May 6, 2005, 727-824-5308. Comments cannot be received via fax from March 18 through March 21, 2005.

Copies of Amendment 6, which includes a Supplemental Environmental Impact Statement, a Regulatory Impact Review (RIR), and an Initial Regulatory Flexibility Analysis (IRFA), are available from the South Atlantic Fishery Management Council, 1 Southpark Circle, Suite 306, Charleston, SC 29407-4699; phone: 843-571-4366; fax: 843-769-4520; toll free: 866-SAFMC-10; email: safmc@samfc.net.

FOR FURTHER INFORMATION CONTACT: Dr. Steve Branstetter, 727-570-5305; fax 727-570-5583; e-mail: steve.branstetter@noaa.gov.

SUPPLEMENTARY INFORMATION: The Magnuson-Stevens Fishery Conservation and Management Act (Magnuson-Stevens Act) requires each Regional Fishery Management Council to submit any fishery management plan or amendment to NMFS for review and approval, disapproval, or partial approval. The Magnuson-Stevens Act also requires that NMFS, upon receiving a plan or amendment, publish an announcement in the Federal Register notifying the public that the plan or amendment is available for review and comment.

Amendment 6, if implemented, would establish a requirement for penaeid shrimp vessels fishing in the South Atlantic EEZ to possess a Federal commercial vessel permit for South Atlantic penaeid shrimp. Currently, there are limited data available to estimate the number of shrimp fishing vessels and fishing effort expended by those vessels in the South Atlantic EEZ. In proposing this action, the Council concluded that information collected via a Federal permit system would aid in the formulation of sound management measures. Indirectly, in combination with the proposed standardized bycatch reporting methodology (see below), better information can be collected by which to manage those species that are taken as bycatch in the shrimp fishery.

Amendment 6 contains proposed measures to require vessels participating in the rock shrimp fishery in the South Atlantic EEZ to use NMFS-certified BRDs. This action would address the requirements of National Standard 9 of the Magnuson-Stevens Act to (A) minimize bycatch and (B) to the extent bycatch cannot be avoided, minimize the mortality of such bycatch, to the extent practicable. The proposed action also supports the Council's efforts to achieve an ecosystem approach in fisheries management.

Amendment 6, if implemented, also would establish a method to regularly monitor, report, and estimate the bycatch in the shrimp fishery of the South Atlantic region, in compliance with section 303(a)(11) of the Magnuson-Stevens Act. Section 303(a)(11) states that any FMP that is prepared by any Council, or by the Secretary of Commerce, with respect to any fishery, shall “establish a standardized reporting methodology to assess the amount and type of bycatch occurring in the fishery....” To support this mandate, the National Standard Guidelines call for development of a database for each fishery in order to house bycatch and bycatch mortality information. The Council proposes to adopt the Atlantic Coastal Cooperative Statistics Program Release, Discard, and Protected Species Module to house bycatch and bycatch mortality information. Until this module is fully implemented and active, the Council proposes to use a variety of sources to assess and monitor bycatch including observer coverage and logbooks aboard Federally permitted commercial shrimp vessels, state cooperative data collection, and grant funded projects.

Amendment 6 proposes to modify the BRD framework procedure, as established in the Shrimp FMP, giving NMFS the authority to maintain and modify the BRD Testing Protocol as necessary. The BRD framework was established in Amendment 2 to the Shrimp FMP and outlines the procedures by which an experimental BRD is to be tested for its ability to reduce bycatch in a shrimp trawl. The intent of this action is to reduce the administrative burden associated with potential revisions of the BRD Testing Protocol and to achieve more timely implementation of any such revisions.

Relatedly, to more effectively address bycatch reduction, the Council is proposing to adjust the criteria for the certification of new BRDs established in the BRD framework. Amendment 2's BRD framework established criteria by which experimental BRDs would be certified for use in the South Atlantic penaeid shrimp fishery. Currently, a BRD is certified if the BRD can be statistically demonstrated to reduce bycatch mortality of juvenile Spanish mackerel and weakfish by a minimum of 50 percent or if it demonstrates a 40-percent reduction in numbers of Spanish mackerel and weakfish. When these criteria were established, both species were considered overfished. Spanish mackerel now is completely recovered, and weakfish is no longer overfished. In addition, sampling for these species has proved to be impractical because it is difficult to encounter Spanish mackerel and weakfish simultaneously while testing BRDs.

To better address the requirements of National Standard 9, the Council is proposing to change the certification criteria to a general finfish reduction requirement. The Council is proposing that for a new BRD to be certified for use in the shrimp fishery, it must be statistically demonstrated that the BRD can reduce the total weight of finfish catch by at least 30 percent. This broader bycatch reduction objective would support the Council's efforts to achieve an ecosystem approach in fisheries management.

Finally, to better comply with the Magnuson-Stevens Act requirements, the Council is proposing to establish or modify the current stock status criteria established for white, brown, pink, and rock shrimp. The Magnuson-Stevens Act requires that each FMP define reference points in the form of maximum sustainable yield (MSY) and optimum yield (OY), and specify objective and measurable criteria for identifying when the fishery is overfished and/or undergoing overfishing. Status determination criteria include a minimum stock size threshold (MSST) to indicate when a stock is overfished, and a maximum fishing mortality threshold (MFMT) to indicate when a stock is undergoing overfishing. Together, these four parameters (MSY, OY, MSST, and MFMT) provide fishery managers with the tools to determine the status of a fishery at any given time and assess whether management measures are achieving established goals. In the Council's 1998 comprehensive amendment to the FMP that addressed SFA definitions, the Council concluded its established definitions were consistent with the best available scientific information at the time. Based on more recent information, the Council is proposing to either modify existing criteria or to establish new criteria.

A proposed rule that would implement measures outlined in Amendment 6 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by May 6, 2005, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: March 2, 2005.
Alan D. Risenhoover,
Acting Director, Office of Sustainable Fisheries, National Marine Fisheries Service.

[FR Doc. 05-4375 Filed 3-4-05; 8:45 am]

BILLING CODE 3510-22-S